DEPARTMENT OF TRANSPORTATION

Federal Aviation Administration

14 CFR Part 97

[Docket No. 30464; Amdt. No. 3140]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective November 15, 2005. The compliance date for each SIAP and/or Weather Takeoff Minimums is specified in the amendatory provisions.

The incorporation by reference of certain publications listed in the regulations is approved by the Director of the Federal Register as of November 15, 2005.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

For Purchase

Individual SIAP and Weather Takeoff Minimums copies may be obtained from:

1. FAA Public Inquiry Center (APA-200), FAA Headquarters Building, 800 Independence Avenue, SW., Washington, DC 20591; or

2. The FAA Regional Office of the region in which the affected airport is located.

By Subscription

Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore (1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on November 4, 2005.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 22 Dec 2005

Cold Bay, AK, Cold Bay, RNAV (GPS) RWY 14, Orig

Cold Bay, AK, Cold Bay, RNAV (GPS) RWY 26, Amdt 1

Cold Bay, AK, Cold Bay, RNAV (GPS) RWY 32, Orig

Cold Bay, AK, Cold Bay, ILS OR LOC/DME RWY 14, Amdt 17

Cold Bay, AK, Cold Bay, LOC/DME BC RWY 32, Amdt 8

Cold Bay, AK, Cold Bay, VOR RWY 14, Amdt 14

Cold Bay, AK, Cold Bay, VOR/DME OR TACAN-A, Amdt 3

Cold Bay, AK, Cold Bay, GPS RWY 14, Orig, CANCELLED

Cold Bay, AK, Cold Bay, GPS RWY 32, Orig-A, CANCELLED

Deering, AK, Deering, RNAV (GPS) RWY 2, Orig

Deering, AK, Deering, RNAV (GPS) RWY 11, Orig

Deering, AK, Deering, RNAV (GPS) RWY 20, Orig

Deering, AK, Deering, RNAV (GPS) RWY 29, Orig

Deering, AK, Deering, Takeoff Minimums and Textual DP, Orig

Oakdale, CA, Oakdale, VOR RWY 10, Amdt 5C, CANCELLED

Ontario, CA, Ontario Intl, RNAV (GPS) RWY 8R, Amdt 1

Palm Springs, CA, Palm Springs International, RNAV (RNP) Y RWY 31L, Orig

Palm Springs, CA, Palm Springs International, RNAV (RNP) Y RWY 13R, Orig

San Francisco, CA, San Francisco Intl, RNAV (RNP) Y RWY 28R, Orig-A

Atlanta, GA, Hartsfield-Jackson Atlanta Intl, ILS OR LOC RWY 9L, Amdt 7

Atlanta, GA, Hartsfield-Jackson Atlanta Intl, ILS OR LOC RWY 26L, Amdt 18

Atlanta, GA, Hartsfield-Jackson Atlanta Intl, Takeoff Minimums and Textual DP, Amdt 1

Dalton, GA, Dalton Muni, ILS OR LOC RWY 14, Orig

Dalton, GA, Dalton Muni, LOC RWY 14, Orig, CANCELLED

Macon, GA, Middle Georgia Regional, RNAV (GPS) RWY 5, Orig

Macon, GA, Middle Georgia Regional, RNAV (GPS) RWY 13, Orig

Macon, GA, Middle Georgia Regional, RNAV (GPS) RWY 23, Orig

Macon, GA, Middle Georgia Regional, RNAV (GPS) RWY 31, Orig

Macon, GA, Middle Georgia Regional, ILS OR LOC/DME RWY 5, Orig

Macon, GA, Middle Georgia Regional, ILS RWY 5, Amdt 25, CANCELLED

Macon, GA, Middle Georgia Regional, GPS RWY 5, Orig, CANCELLED

Macon, GA, Middle Georgia Regional, GPS RWY 13, Orig, CANCELLED

Macon, GA, Middle Georgia Regional, GPS RWY 23, Orig, CANCELLED

Macon, GA, Middle Georgia Regional, GPS RWY 31, Orig, CANCELLED

Macon, GA, Middle Georgia Regional, VOR RWY 13, Amdt 9

Macon, GA, Middle Georgia Regional, Takeoff Minimums and Textual DP, Amdt 2

Statesboro, GA, Statesboro-Bulloch County, ILS OR LOC RWY 32, Amdt 2

Statesboro, GA, Statesboro-Bulloch County, RNAV (GPS) RWY 32, Amdt 2

Covington, KY, Cincinnati/Northern Kentucky International, RNAV (GPS) RWY 18R, Orig

Covington, KY, Cincinnati/Northern Kentucky International, RNAV (GPS) RWY 36L, Orig

Covington, KY, Cincinnati/Northern Kentucky International, ILS OR LOC RWY 18C, Amdt 21

Covington, KY, Cincinnati/Northern Kentucky International, ILS OR LOC RWY 18L, Amdt 6

Covington, KY, Cincinnati/Northern Kentucky International, ILS OR LOC RWY 18R, ILS RWY 18R (CAT II), Orig

Covington, KY, Cincinnati/Northern Kentucky International, ILS OR LOC RWY 36C, ILS RWY 36C (CAT II), ILS RWY 36C (CAT III), Amdt 40

Covington, KY, Cincinnati/Northern Kentucky International, ILS OR LOC RWY 36L, ILS RWY 36L (CAT II), Orig

Covington, KY, Cincinnati/Northern Kentucky International, ILS OR LOC RWY 36R, ILS RWY 36R (CAT II), ILS RWY 36R (CAT III), Amdt 7

Marion, KY, Marion-Crittenden County, RNAV (GPS) RWY 7, Orig

Marion, KY, Marion-Crittenden County, RNAV (GPS) RWY 25, Orig

Marion, KY, Marion-Crittenden County, Takeoff Minimums and Textual DP, Orig

Gonzales, LA, Louisiana Regional, RNAV (GPS) RWY 17, Orig

Gonzales, LA, Louisiana Regional, RNAV (GPS) RWY 35, Orig

Gonzales, LA, Louisiana Regional, VOR/DME-A, Amdt 2

Hyannis, MA, Barnstable Muni-Boardman/Polando Field, ILS OR LOC RWY 24, Amdt 17

Worcester, MA, Worcester Regional, NDB RWY 11, Amdt 21

Worcester, MA, Worcester Regional, ILS OR LOC RWY 11, Amdt 22

Worcester, MA, Worcester Regional, ILS OR LOC RWY 29, Amdt 3

Worcester, MA, Worcester Regional, RNAV (GPS) RWY 11, Orig

Worcester, MA, Worcester Regional, RNAV (GPS) RWY 29, Orig

Worcester, MA, Worcester Regional, GPS RWY 29, Orig, CANCELLED

Portland, ME, Portland Intl Jetport, ILS OR LOC RWY 29, Amdt 2

Portland, ME, Portland Intl Jetport, RNAV (GPS) RWY 11, Amdt 2

Portland, ME, Portland Intl Jetport, RNAV (GPS) RWY 29, Amdt 1

Benson, MN, Benson Muni, NDB RWY 14, Amdt 7

Columbia, MO, Columbia Regional, RNAV (GPS) RWY 2, Amdt 1

Columbia, MO, Columbia Regional, RNAV (GPS) RWY 20, Amdt 1

Marshall, MO, Marshall Meml Muni, RNAV (GPS) RWY 18, Amdt 1

Marshall, MO, Marshall Meml Muni, RNAV (GPS) RWY 36, Amdt 1

Marshall, MO, Marshall Meml Muni, NDB RWY 36, Amdt 2

Marshall, MO, Marshall Meml Muni, Takeoff Minimums and Textual DP's, Orig

Greenwood, MS, Greenwood-LeFlore, RNAV (GPS) RWY 5, Orig

Greenwood, MS, Greenwood-LeFlore, RNAV (GPS) RWY 18, Amdt 1

Greenwood, MS, Greenwood-LeFlore, RNAV (GPS) RWY 36, Orig

Greenwood, MS, Greenwood-LeFlore, ILS OR LOC RWY 18, Amdt 6

Greenwood, MS, Greenwood-LeFlore, VOR RWY 5, Amdt 11

Greenwood, MS, Greenwood-LeFlore, GPS RWY 36, Orig, CANCELLED

Greenwood, MS, Greenwood-LeFlore, GPS RWY 5, Orig, CANCELLED

Greenwood, MS, Greenwood-LeFlore, VOR/DME RNAV RWY 36, Amdt 3A

Greenwood, MS, Greenwood-LeFlore, VOR/DME RNAV RWY 18, Amdt 6A

Wahpeton, ND, Harry Stern, RNAV (GPS) RWY 15, Orig

Wahpeton, ND, Harry Stern, RNAV (GPS) RWY 33, Orig

Wahpeton, ND, Harry Stern, NDB RWY 33, Amdt 5

Wahpeton, ND, Harry Stern, GPS RWY 33, Orig-A, CANCELLED

Grand Island, NE, Central Nebraska Regional, RNAV (GPS) RWY 13, Amdt 1

Grand Island, NE, Central Nebraska Regional, RNAV (GPS) RWY 17, Amdt1

Grand Island, NE, Central Nebraska Regional, RNAV (GPS) RWY 31, Amdt1

Grand Island, NE, Central Nebraska Regional, RNAV (GPS) RWY 35, Amdt1

Hobbs, NM, Lea County Rgnl, RNAV (GPS) RWY 3, Orig

Hobbs, NM, Lea County Rgnl RNAV (GPS) RWY 21, Orig

Hobbs, NM, Lea County Rgnl RNAV (GPS) RWY 30, Orig

Hobbs, NM, Lea County Rgnl ILS OR LOC RWY 3, Amdt 6

Hobbs, NM, Lea County Rgnl LOC/DME BC RWY 21, Amdt 6

Hobbs, NM, Lea County Rgnl VOR/DME OR TACAN RWY 21, Amdt 9

Hobbs, NM, Lea County Rgnl VOR OR TACAN RWY 3, Amdt 21

Hobbs, NM, Lea County Rgnl GPS RWY 3, Orig-B, CANCELLED

Hobbs, NM, Lea County Rgnl GPS RWY 21, Orig-B, CANCELLED

Hobbs, NM, Lea County Rgnl GPS RWY 30, Orig-B, CANCELLED

Las Vegas, NV, Henderson Executive, VOR-C, Orig

Las Vegas, NV, North Las Vegas, ILS OR LOC RWY 12L, Orig

Fort Worth, TX, Fort Worth Spinks, RNAV (GPS) RWY 17R, Orig

Fort Worth, TX, Fort Worth Spinks, RNAV (GPS) RWY 35L, Orig

Fort Worth, TX, Fort Worth Spinks, VOR/DME RNAV RWY 35L, Orig-B, CANCELLED

Houston, TX, George Bush Intercontinental/Houston, RNAV (GPS) Z RWY 8L, Amdt 1

Houston, TX, George Bush Intercontinental/Houston, RNAV (GPS) Z RWY 9, Amdt 2

Houston, TX, George Bush Intercontinental/Houston, RNAV (GPS) Z RWY 27, Amdt 1

Houston, TX, George Bush Intercontinental/Houston, RNAV (GPS) Z RWY 26R, Amdt 1

Houston, TX, George Bush Intercontinental/Houston, ILS OR LOC RWY 8L, ILS RWY 8L, (CAT II), ILS RWY 8L (CAT III), Amdt 1

Houston, TX, George Bush Intercontinental/Houston, ILS OR LOC RWY 9, Amdt 7

Houston, TX, George Bush Intercontinental/Houston, ILS OR LOC RWY 27, ILS RWY 27, (CAT II), ILS RWY 27 (CAT III), Amdt 6

Houston, TX, George Bush Intercontinental/Houston, ILS OR LOC RWY 26R, ILS RWY 26R, (CAT II), ILS RWY 26R (CAT III), Amdt 1

Longview, TX, East Texas Regional, ILS OR LOC RWY 13, Amdt 12

Longview, TX, East Texas Regional, VOR/DME OR TACAN RWY 31, Amdt 7

Longview, TX, East Texas Regional, VOR/DME OR TACAN RWY 13, Amdt 1

Wichita Falls, TX, Kickapoo Downtown Airpark, RNAV (GPS) RWY 35, Orig

Wichita Falls, TX, Kickapoo Downtown Airpark, NDB RWY 35, Amdt 4

Wichita Falls, TX, Kickapoo Downtown Airpark, NDB-A, Amdt 6A

Wichita Falls, TX, Kickapoo Downtown Airpark, VOR/DME RNAV OR GPS RWY 35, Amdt 3A, CANCELLED

Sutton, WV, Braxton County, RNAV (GPS) RWY 1, Orig

Sutton, WV, Braxton County, RNAV (GPS) RWY 19, Orig

Sutton, WV, Braxton County, Takeoff Minimums and Textual DP, Orig

[FR Doc. 05-22494 Filed 11-14-05; 8:45 am]

BILLING CODE 4910-13-P